DEPARTMENT OF DEFENSE

Office of the Secretary

Medical Malpractice Claims by Members of the Uniformed Services; Notice of Increase in Cap on Non-Economic Damages

AGENCY: Department of Defense Office of General Counsel, DoD.

ACTION: Notice of increase in cap on noneconomic damages.

SUMMARY: This notice provides information on the increase in the cap on non-economic damages for DoD medical malpractice claims filed by members of the Uniformed Services.

DATES: The increased cap is effective October 20, 2023.

FOR FURTHER INFORMATION CONTACT: Melissa D. Walters, (703) 681-6027, melissa.d.walters.civ@mail.mil.

SUPPLEMENTARY INFORMATION: A final rule published in the Federal Register on August 22, 2022 (87 FR 52446-52463), 32 CFR 45.10(c), requires the Department of Defense to publish periodic updates to the cap on non-economic damages, consistent with changes in the prevailing amounts in the States with non-economic damages caps.

The cap on non-economic damages is increased from $600,000 to $750,000. This change reflects changes in State law, including changes in those States that periodically increase their damages cap to reflect inflation, and to account for average jury verdicts in those states that have caps on non-economic damages that do not apply in cases of more serious injury.

Dated: October 12, 2023.
Patricia L. Toppings,
OSD Federal Register Liaison Officer, Department of Defense.

[FR Doc. 2023-23014 Filed 10-19-23; 8:45 am]

BILLING CODE 6001-FR-P